DEPARTMENT OF COMMERCE

International Trade Administration

A-580-844

Steel Concrete Reinforcing Bar from The Republic of Korea: Notice of Final Results and Final Partial Rescission of Antidumping Duty Administrative Review

AGENCY: Import Administration, International Trade Administration, Department of Commerce.

SUMMARY: On October 10, 2006, the Department of Commerce published the preliminary results of the 2004 - 2005 administrative review of the antidumping duty order on steel concrete reinforcing bars from the Republic of Korea. The period of review (POR) is September 1, 2004, through August 31, 2005.

Based on our analysis of the comments received, we have not made changes in the margin calculations for the companies covered by this review. Therefore, the final results do not differ from the preliminary results. The final weighted-average dumping margins for the reviewed firms are listed below in the section entitled “Final Results of Review.”

Furthermore, we are rescinding this review with respect to Hanbo Iron & Steel Co., Ltd. (Hanbo), INI Steel (INI) and Kosteel Co., Ltd. (Kosteel), as discussed below in the section entitled “Partial Rescission of Review.”

EFFECTIVE DATE: April 13, 2007.

FOR FURTHER INFORMATION CONTACT: Terre Keaton Stefanova or Katherine Johnson, AD/CVD Operations, Office 2, Import Administration, International Trade Administration, U.S. Department of Commerce, 14th Street and Constitution Avenue, NW, Washington, DC 20230; telephone: (202) 482- 1280 or (202) 482-4929, respectively.

SUPPLEMENTARY INFORMATION:

Background

The review covers the following producers/exporters of the subject merchandise: Dongkuk Steel Mill Co., Korea Iron and Steel Co., Hwanyoung Steel Industries Co., Ltd. (collectively DSM/KISCO/HSI or “the respondent”),¹ and Dongil Industries Co., Ltd (Dongil). The period of review is September 1, 2004, through August 31, 2005.

¹ In the preliminarily results, we determined that DSM, KISCO and HSI were affiliated and collapsed them into a single entity for margin calculation purposes because they met the regulatory criteria for collapsing affiliated producers/exporters. No interested party objected to our preliminary determination to collapse these companies. Therefore, for the final results margin calculation, we have continued to treat these companies as a single entity.

October 10, 2006, the Department of Commerce (the Department) published the preliminary results of the administrative review of the antidumping duty order on steel concrete reinforcing bars from the Republic of Korea. See Steel Concrete Reinforcing Bar From The Republic of Korea: Notice of Preliminary Results and Preliminary Rescission, in Part, of Antidumping Duty Administrative Review, 71 FR 59440 (October 10, 2006) (Preliminary Results). We invited interested parties to comment on the Preliminary Results.

The petitioners filed a case brief on December 12, 2006.² The respondent filed a rebuttal brief on December 18, 2006. The respondent requested a hearing but subsequently withdrew its request. In lieu of a hearing, the petitioners and respondent requested separate ex parte meetings to discuss the yield strength model-matching criterion issue raised in their briefs. These ex parte meetings were held in January and February 2007 (see January 29, 2007, and February 5, 2007, memoranda to the file). We have conducted this administrative review in accordance with section 751(a) of the Tariff Act of 1930, as amended (the Act).

² The petitioners are Nucor Corporation, Commercial Metals Company, and Gerdau Ameristeel Inc., collectively, Rebar Trade Action Coalition.

Scope of the Order

The product covered by this order is all rebar sold in straight lengths, currently classifiable in the Harmonized Tariff Schedule of the United States (HTSUS) under item number 7214.20.00 or any other tariff item number. Specifically excluded are plain rounds (i.e., non-deformed or smooth bars) and rebar that has been further processed through bending or coating. The HTSUS subheading is provided for convenience and customs purposes. The written description of the scope of this order is dispositive.

Partial Rescission of Review

In the Preliminary Results, the Department preliminarily rescinded the review with respect to Hanbo, INI and Kosteel because these companies notified the Department that they had no shipments of subject merchandise during the POR. We confirmed these claims with U.S. Customs and Border Protection (CBP). Pursuant to 19 CFR 351.213(d)(3), the Department may rescind an administrative review, in whole or with respect to a particular exporter or producer, if the Department concludes that, during the period covered by the review, there were no entries, exports, or sales of the subject merchandise. Because we found no evidence of POR entries of subject merchandise from these companies based on our review of entry data from CBP and we did not receive any comments from interested parties on our preliminary rescission decision, we are rescinding this review with respect to these companies. See, e.g., Steel Concrete Reinforcing Bars From Turkey; Final Results, Rescission of Antidumping Duty Administrative Review in Part, and Determination not to Revoke in Part, 68 FR 53127 (September 9, 2003) (after finding no evidence of entries of subject merchandise from two companies that made “no-shipments” claims, the Department stated that “consistent with our practice, we are rescinding our review for Diler and Ekinciler”).

Analysis of Comments Received

The sole issue raised in the case and rebuttal briefs by parties to this antidumping duty administrative review is addressed in the “Issues and Decision Memorandum” (Decision Memo) from Stephen J. Claeys, Deputy Assistant Secretary for Import Administration, to David M. Spooner, Assistant Secretary for Import Administration, dated April 9, 2007, which is hereby adopted by this notice. The issue which parties have raised and to which we have responded in the Decision Memo pertains to model-matching criteria. Parties can find a complete discussion of the issue raised in this review and the corresponding recommendation in this public memorandum which is on file in the Central Records Unit, room B-099 of the main Department building. In addition, a complete version of the Decision Memo can be accessed directly on the Web at http://ia.ita.doc.gov/frn. The paper copy and electronic version of the Decision Memo are identical in content.

Facts Available

In the Preliminary Results, pursuant to sections 776(a)(2)(A) and 776(b) of the Act, we based the dumping margin for Dongil on total adverse facts available (AFA) because Dongil failed to respond to the Department's antidumping questionnaire. A complete explanation of the application of AFA and the corroboration of the selected AFA rate can be found in the Preliminary Results, 71 FR at 59441-59443. The Department has neither received any comments from interested parties with regard to its preliminary decision to apply AFA to Dongil, nor obtained any additional information which would lead us to change that decision. Accordingly, for the final results, we continue to apply an AFA rate of 102.28 percent to Dongil.

Final Results of Review

We determine that the following weighted-average margin percentages exist:

Manufacturer/exporter | Margin (percent)
Dongkuk Steel Mill Co., Ltd./Korea Iron and Steel Co., Ltd./Hwanyoung Steel Industries Co., Ltd. | 0.00
Dongil Industries Co., Ltd. | 102.28

Assessment

The Department shall determine, and CBP shall assess, antidumping duties on all appropriate entries, in accordance with 19 CFR 351.212(b). The Department will issue assessment instructions directly to CBP 15 days after the date of publication of these final results of review. Pursuant to 19 CFR 351.106(c)(2), we will instruct CBP to assess antidumping duties on all appropriate entries covered by this review if any importer-specific assessment rate calculated in the final results of this review is above de minimis (i.e., is not less than 0.50 percent). With respect to DSM/KISCO/HSI, we calculated an importer-specific assessment rate for the subject merchandise by aggregating the dumping margins calculated for all the U.S. sales examined and dividing this amount by the total entered value of the sales examined.

The Department clarified its “automatic assessment” regulation on May 6, 2003. See Antidumping and Countervailing Duty Proceedings: Assessment of Antidumping Duties, 68 FR 23954 (May 6, 2003). This clarification will apply to entries of subject merchandise during the POR produced by DSM/KISCO/HSI included in these final results of review for which DSM/KISCO/HSI did not know its merchandise was destined for the United States. In such instances, we will instruct CBP to liquidate unreviewed entries at the “All Others” rate if there is no rate for the intermediate company(ies) involved in the transaction.

With respect to the companies for which this review was rescinded, although they did not have any sales or exports of subject merchandise to the United States during the POR, their subject merchandise may have entered the United States during the POR under their CBP antidumping case number by way of intermediaries (without their knowledge). Fifteen days after publication of this notice, the Department will instruct CBP to liquidate such entries at the “All Others” rate in effect on the date of the entry. See Antidumping and Countervailing Duty Proceedings: Assessment of Antidumping Duties, 68 FR 23954 (May 6, 2003).

Cash Deposit Requirements

The following cash deposit requirements will be effective for all shipments of the subject merchandise entered, or withdrawn from warehouse, for consumption on or after the publication date of the final results of this administrative review, as provided by section 751(a)(1) of the Act: (1) no cash deposit will be required for DSM/KISCO/HSI and the cash deposit rate for Dongil will be 102.28 percent; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 22.89 percent. This rate is the “All Others” rate from the LTFV investigation. These deposit requirements shall remain in effect until further notice.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 751(a)(1) and 777(i) of the Act and 19 CFR 351.221.

Dated: April 9, 2007.
David M. Spooner,
Assistant Secretary for Import Administration.

[FR Doc. E7-7084 Filed 4-12-07; 8:45 am]

BILLING CODE 3510-DS-S